DEPARTMENT OF THE INTERIOR

Bureau of Ocean Energy Management, Regulation and Enforcement

[Docket No. BOEM-2010-0053]

BOEMRE Information Collection Activity: 1010-0067, Oil and Gas Well-Completion Operations, Extension of a Collection; Submitted for Office of Management and Budget (OMB) Review; Comment Request

AGENCY: Bureau of Ocean Energy Management, Regulation and Enforcement (BOEMRE), Interior.

ACTION: Notice of extension of an information collection (1010-0067).

SUMMARY: To comply with the Paperwork Reduction Act of 1995 (PRA), we are notifying the public that we have submitted to OMB an information collection request (ICR) to renew approval of the paperwork requirements in the regulations under 30 CFR 250, subpart E, “Oil and Gas Well Completion Operations.” This notice also provides the public a second opportunity to comment on the paperwork burden of these regulatory requirements.

DATES: Submit written comments by December 9, 2010.

ADDRESSES: Submit comments by either fax (202) 395-5806 or e-mail. (OIRA_DOCKET@omb.eop.gov) directly to the Office of Information and Regulatory Affairs, OMB, Attention: Desk Officer for the Department of the Interior (1010-0067). Please also submit a copy of your comments to BOEMRE by any of the means below.

• Electronically: Go to http://www.regulations.gov. In the entry titled “Enter Keyword or ID,” enter docket ID BOEM-2010-0053 then click search. Follow the instructions to submit public comments and view supporting and related materials available for this collection. BOEMRE will post all comments.

• E-mail: cheryl.blundon@boemre.gov. Mail or hand-carry comments to: Department of the Interior; Bureau of Ocean Energy Management, Regulation and Enforcement; Attention: Cheryl Blundon; 381 Elden Street, MS-4024; Herndon, Virginia 20170-4817. Please reference ICR 1010-0067 in your comment and include your name and return address.

FOR FURTHER INFORMATION CONTACT: Cheryl Blundon, Regulations and Standards Branch, (703) 787-1607. You may also contact Cheryl Blundon to obtain a copy, at no cost, of the regulation that requires the subject collection of information.

SUPPLEMENTARY INFORMATION: Title: 30 CFR 250, subpart E, Oil and Gas Well-Completion Operations.

OMB Control Number: 1010-0067.

Abstract: The Outer Continental Shelf (OCS) Lands Act, 43 U.S.C. 1331 et seq. and 43 U.S.C. 1801 et seq., requires the Secretary of the Interior to preserve, protect, and develop oil and gas resources in the OCS in a manner that is consistent with the need to make such resources available to meet the Nation's energy needs as rapidly as possible; balance orderly energy resources development with protection of the human, marine, and coastal environment; ensure the public a fair and equitable return on OCS resources; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” This authority and responsibility are among those delegated to BOEMRE. To carry out these responsibilities, BOEMRE issues regulations governing oil and gas and sulphur operations in the OCS. This ICR addresses the 30 CFR 250, subpart E, regulations implementing these responsibilities.

BOEMRE analyzes and evaluates the information and data collected to ensure that planned well-completion operations will protect personnel and natural resources. They use the analysis and evaluation results in the decision to approve, disapprove, or require modification to the proposed well-completion operations. Specifically, BOEMRE uses the information to ensure: (a) Compliance with personnel safety training requirements; (b) crown block safety device is operating and can be expected to function to avoid accidents; (c) proposed operation of the annular preventer is technically correct and provides adequate protection for personnel, property, and natural resources; (d) well-completion operations are conducted on well casings that are structurally competent; and (e) sustained casing pressures are within acceptable limits.

Subpart E was revised by rulemaking that became effective June 3, 2010 (75 FR 23582), and addresses the procedures and requirements necessary to monitor, report, and ameliorate sustained casing pressure (SCP) conditions. BOEMRE uses the information to determine whether production from wells with SCP continues to afford the greatest possible degree of safety under these conditions and to require corrective action in specified cases that pose an ongoing safety hazard.

Responses are mandatory. No questions of a sensitive nature are asked. BOEMRE protects information considered proprietary according to Freedom of Information Act (5 U.S.C. 552) and its implementing regulations (43 CFR 2), and 30 CFR 250.197, “Data and information to be made available to the public or for limited inspection.”

Frequency: Varies by section, but is mostly on occasion or annual.

Description of Respondents: Potential respondents comprise Federal oil, gas, or sulphur lessees and/or operators.

Estimated Reporting and Recordkeeping Hour Burden: The estimated annual hour burden for this information collection is a total of 41,879 hours. The following chart details the individual components and estimated hour burdens. In calculating the burdens, we assumed that respondents perform certain requirements in the normal course of their activities. We consider these to be usual and customary and took that into account in estimating the burden.

Citation 30 CFR 250 Subpart E | Reporting and recordkeeping requirements | Hour burden | Average number of annual responses | Annual burden hours
Requests
502 | Request an exception to shutting in producible wells before moving a well-completion rig or related equipment | 5 | 100 exceptions | 500
512 | Request establishment, amendment, or cancellation of well-completion field rules | 10 | 3 field rules | 30
500-530 | General departure and alternative compliance requests not specifically covered elsewhere in Subpart E regulations | 2 | 15 requests | 30
Subtotal |  |  | 118 responses | 560
Record Records
506 | Record dates and times of well-completion operations safety meetings | ½ | 647 completions × 4 meetings = 2,588 | 1,294
511 | Record results of weekly traveling-block safety device in operations log | 1 | 647 completions × 2 recordings = 1,294 | 1,294
516(c)(1) | Record all your BOP test pressures | ¾ | 647 completions × 4 recordings = 2,588 | 1,941
516(e) | Record reason for postponing BOP test in driller's report | ½ | 54 recordings | 27
516(i) | Record time, date, and results of all pressure tests, crew drills, actuations, and inspections in driller's report | 5 | 647 completions × 4 recordings = 2,588 | 12,940
516(i)(1) | Record BOP test pressure on pressure charts | 2 | 647 completions × 4 recordings = 2,588 | 5,176
Subtotal |  |  | 11,700 responses | 22,672
Submittals
513; 515(a); 525 | Submit Forms MMS-123, MMS-123S, MMS-124, and MMS-125 and all accompanying information to conduct well-completion operations | Burden included under 1010-0141. |  | 0
517(b) | Submit results of casing pressure testing, callipering, and other evaluations | 4 | 82 results | 328
525(a); 526 | Submit notification of corrective action | 1½ | 66 actions | 99
525(a); 529(a) | Submit a corrective action plan | 11 | 130 plans | 1,430
525(b); 527 | Submit a casing pressure request | 9 | 1,235 requests | 11,115
529(b) | Submit the casing pressure diagnostic test data | 1 | 65 submittals | 65
Subtotal |  |  | 1,578 responses | 13,037
Post/Retain
514(c) | Post the number of stands of drill pipe/collars that may be pulled and equivalent well-control fluid volume | ½ | 639 postings | *320
516(i)(6) | Retain all records including pressure charts, driller's report, referenced documents pertaining to BOP tests, actuations, and inspections at the facility for duration of the activity | 1½ | 647 records | *971
516(i)(7) | After completion of well, retain all records for 2 years at location conveniently available to BOEMRE | 2 | 647 records | 1,294
523 | Retain records of casing pressure and diagnostic tests for 2 years or until the well is abandoned | 1 | 3,025 records | 3,025
Subtotal |  |  | 4,958 responses | 5,610
Total Hour Burden |  |  | 18,354 responses | 41,879
* Rounded.

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on April 12, 2010, we published a Federal Register notice (75 FR 18545) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by December 9, 2010.

Public Availability of Comments: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: October 21, 2010.
Sharon Buffington,
Acting Chief, Office of Offshore Regulatory Programs.

[FR Doc. 2010-28277 Filed 11-8-10; 8:45 am]

BILLING CODE 4310-MR-P